NATIONAL SCIENCE FOUNDATION

Sunshine Act Meeting; National Science Board

The National Science Board's Executive Committee, pursuant to NSF regulations (45 CFR part 614), the National Science Foundation Act, as amended (42 U.S.C. 1862n-5), and the Government in the Sunshine Act (5 U.S.C. 552b), hereby gives notice of the scheduling of a teleconference for the transaction of National Science Board business, as follows:

DATE & TIME: Monday, July 20, 2015 at 2:00 p.m. EDT.

SUBJECT MATTER: (1) Chairman's opening remarks; (2) Discussion of agenda for the August 2015 meetings of the National Science Board; and (3) Approval of prior committee minutes.

STATUS: Open.

LOCATION: This meeting will be held by teleconference at the National Science Board Office, National Science Foundation, 4201Wilson Blvd., Arlington, VA 22230. A public listening line will be available. Members of the public must contact the Board Office [call 703-292-7000 or send an email message to nationalsciencebrd@nsf.gov] at least 24 hours prior to the teleconference for the public listening number.

UPDATES & POINT OF CONTACT: Please refer to the National Science Board Web site www.nsf.gov/nsb for additional information. Meeting information and updates (time, place, subject matter or status of meeting) may be found at http://www.nsf.gov/nsb/meetings/notices.jsp. Point of contact for this meeting is: James Hamos, 4201Wilson Blvd., Arlington, VA 22230. Email: jhamos@nsf.gov.

Kyscha Slater-Williams,
Program Specialist for the National Science Board.

[FR Doc. 2015-17280 Filed 7-9-15; 4:15 pm]

BILLING CODE 7555-01-P